DEPARTMENT OF COMMERCE

International Trade Administration

Trade Mission to Central America in Conjunction With the Trade Americas—Business Opportunities in Central America Conference, March 26-31, 2017

AGENCY: International Trade Administration, Department of Commerce.

ACTION: Notice.

SUMMARY: The United States Department of Commerce, International Trade Administration is organizing a trade mission to Central America that will include the Trade Americas—Business Opportunities in Central America Conference in San Jose, Costa Rica on March 26-28, 2017.

U.S. trade mission participants will arrive in Costa Rica on or before March 26 to attend the opening reception for the Trade Americas—Business Opportunities in Central America Conference, which is also open to U.S. companies not participating in the trade mission. Trade mission participants will attend the Conference on March 27. Following the morning session of the conference, trade mission participants will participate in one-on-one consultations with U.S. and Foreign Commercial Service (US&FCS) Commercial Officers and/or Department of State Economic/Commercial Officers from the following U.S. Embassies in the region: Costa Rica, El Salvador, Honduras, Guatemala, Belize, Nicaragua, and Panama. The following day, March 28, trade mission participants will engage in business-to-business appointments with companies in Costa Rica. A limited number of trade mission participants will then have the option to travel to: El Salvador, Honduras, Guatemala, Belize, Nicaragua or Panama (choosing only one market) for optional additional business-to-business appointments based on recommendations from the US&FCS in those markets. Each business to business appointment will be with a pre-screened potential buyer, agent, distributor or joint-venture partner.

The Department of Commerce's Trade Americas—Business Opportunities in Central America Conference will focus on regional-specific sessions, market entry strategies, legal, logistics, and trade financing resources as well as pre-arranged one-on-one consultations with US&FCS Commercial Officers and/or Department of State Economic/Commercial Officers with expertise in commercial markets throughout the region.

This trade mission is open to U.S. companies from a cross section of industries with growing potential in Central America, but is focused on U.S. companies representing best prospects sectors such as construction equipment/road building machinery, renewable energy, automotive parts and accessories, and safety and security equipment.

The combination of the Trade Americas—Business Opportunities in Central America Conference and this trade mission, including its business-to-business matchmaking opportunities in Costa Rica and one other optional Central American country, will provide participants with access to substantive information on strategies for entering or expanding their business across the Central America region.

Schedule

March 26 Travel Day/Arrival to Costa Rica

Registration, Market Briefings, and Networking Reception

March 27 Costa Rica

Morning: Registration and Trade Americas—Business Opportunities in Central America Conference

Afternoon: U.S. Embassy Officer Consultations

Evening: Ambassador's Networking Reception

March 28 Costa Rica

Business-to-Business Meetings

March 29 Travel Day

Optional

March 30 Business-to-Business Meetings in (Choice of one market):

Option (A) Honduras

Option (B) Guatemala

Option (C) El Salvador

Option (D) Belize

Option (E) Nicaragua

Option (F) Panama

March 31 Return to the U.S.

Web site: Please visit our official mission Web site for more information: http://export.gov/trademissions/eg_main_023185.asp.

Participation Requirements

All parties interested in participating in the U.S. Department of Commerce Trade Mission to Central America must complete and submit an application package for consideration by the Department of Commerce. All applicants will be evaluated on their ability to meet certain conditions and best satisfy the selection criteria as outlined below.

A minimum of 30 companies and/or trade associations will be selected to participate in the mission from the applicant pool on a first-come, first-served basis. The total number of U.S. companies that may be selected for each country will be limited as follows: 30 companies for Costa Rica, 10 companies for Guatemala, 10 companies for El Salvador; 4 companies for Belize; 12 companies for Honduras; 10 companies for Nicaragua; and 15 companies for Panama.

Additional participants may be accepted based on available space. U.S. companies and/or trade associations already doing business in or seeking business in Costa Rica, El Salvador, Belize, Guatemala, Honduras, Nicaragua and Panama for the first time may apply.

Fees and Expenses

After a company has been selected to participate in the mission, a payment to the Department of Commerce in the form of a participation fee is required.

• For business-to-business meetings in Costa Rica only (not traveling to an additional trade mission country), the participation fee will be $2,100 for a small or medium-sized enterprise (SME)* and $3,300 for a large firm.*

• For business-to-business meetings in Costa Rica and one other market, i.e. El Salvador OR Honduras OR Guatemala OR Belize OR Nicaragua, OR Panama, the participation fee will be $3,100 for a small or medium-sized enterprise (SME)* and $4,300 for a large firm.*

* An SME is defined as a firm with 500 or fewer employees or that otherwise qualifies as a small business under SBA regulations. Parent companies, affiliates, and subsidiaries will be considered when determining business size (See https://www.sba.gov/content/what-are-small-business-size-standards).

The above trade mission fees include the $450 participation fee for the Trade Americas—Business Opportunities in Central America Conference to be held in San Jose, Costa Rica on March 26-28, 2017.

An additional representative for both SMEs and large firms will require an additional fee of $450.

Application

All interested firms and associations may register via the following link: https://emenuapps.ita.doc.gov/ePublic/TM/7R0M.

Exclusions

The mission fee does not include any personal travel expenses such as lodging, most meals, local ground transportation (except for transportation to and from meetings, and airport transfers during the mission), and air transportation. Participants will, however, be able to take advantage of U.S. Government rates for hotel rooms. Electronic visas are required to participate on the mission, which are easily obtainable online. Applying for and obtaining such visas will be the responsibility of the mission participant. Government fees and processing expenses to obtain such visas are not included in the participation fee. However, the Department of Commerce will provide instructions to each participant on the procedures required to obtain necessary business visas.

Timeline for Recruitment and Applications

Mission recruitment will be conducted in an open and public manner, including publication in the Federal Register, posting on the Commerce Department trade mission calendar (http://export.gov/trademissions) and other Internet Web sites, press releases to the general and trade media, direct mail, broadcast fax, notices by industry trade associations, and other multiplier groups and announcements at industry meetings, symposia, conferences, and trade shows.

Recruitment for the mission will begin immediately and conclude no later than January 31, 2017. The U.S. Department of Commerce will review applications and make selection decisions on a rolling basis beginning 14 days after publication of this Federal Register notice, until the minimum of 30 participants is selected. After January 31, 2017, applications will be considered only if space and scheduling constraints permit.

Conditions for Participation

• An applicant must submit a completed and signed mission application and supplemental application materials, including adequate information on the company's products and/or services, primary market objectives, and goals for participation. Applicant should specify in their application and supplemental materials which trade mission stops they are interested in participating in. If the Department of Commerce receives an incomplete application, the Department may reject the application, request additional information, or take the lack of information into account when evaluating the applications.

• Each applicant must also certify that the products and services it seeks to export through the mission are either produced in the U.S., or, if not, marketed under the name of a U.S. firm and have at least 51% U.S. content of the value of the finished product or service. In the case of a trade association or trade organization, the applicant must certify that, for each company to be represented by the trade association or trade organization, the products and services the represented company seeks to export are either produced in the United States, or, if not, marketed under the name of a U.S. firm and have at least 51% U.S. content.

The following criteria will be evaluated in selecting participants:

• Suitability of a firm's or service provider's (or in the case of a trade association/organization, represented firm or service provider's) products or services to these markets.

• Firm's or service provider's (or in the case of a trade association/organization, represented firm or service provider's) potential for business in the markets, including likelihood of exports resulting from the mission.

• Consistency of the firm's or service provider's (or in the case of a trade association/organization, represented firm or service provider's) goals and objectives with the stated scope of the mission.

Diversity of company size, sector or subsector, and location may also be considered during the review process.

Referrals from political organizations and any documents containing references to partisan political activities (including political contributions) will be removed from an applicant's submission and not considered during the selection process.

FOR FURTHER INFORMATION CONTACT: Jessica Gordon, International Trade Specialist, U.S. Export Assistance Center—Jackson, MS, Jessica.Gordon@trade.gov, Tel: 601-373-0784.

Diego Gattesco, Director, U.S. Export Assistance Center—Wheeling, WV, Diego.Gattesco@trade.gov, Tel: 304-243-5493.

Aileen Nandi, Regional Senior Commercial Officer, U.S. Commercial Service—El Salvador, Aileen.Nandi@trade.gov.

Abby Daniell, Commercial Director, U.S. Commercial Service—Costa Rica, Abby.Daniell@trade.gov.

Frank Spector,
Trade Missions Program.

[FR Doc. 2016-15485 Filed 6-29-16; 8:45 am]

BILLING CODE 3510-DR-P